ENVIRONMENTAL PROTECTION AGENCY

[OPP-30509A; FRL-6778-3]

Pesticide Product; Corn Rootworm Registration Application; Correction

AGENCY: Environmental Protection Agency (EPA).

ACTION: Notice.

SUMMARY: In the Federal Register of March 19, 2001 (66 FR 15435) (FRL-6771-5), EPA announced receipt of an application from Monsanto Company to register a pesticide product containing a new active ingredient not included in any previously registered products pursuant to the provisions of section 3(c)(4) of the Federal Insecticide, Fungicide, and Rodenticide Act. On page 15436, second column, first full paragraph, last sentence, the Commonwealth of Puerto Rico was inadvertently omitted from the proposed planting locations. The sentence is corrected to read “Plantings are proposed for the states of California, Hawaii, Illinois, Iowa, Indiana, Kansas, Michigan, Nebraska, South Dakota, Texas, Wisconsin, and the Commonwealth of Puerto Rico.” This notice announces the correct proposed planting sites.

FOR FURTHER INFORMATION CONTACT: By mail: Mike Mendelsohn, Biopesticides and Pollution Prevention Division (7511C), Office of Pesticide Programs, Environmental Protection Agency, 1200 Pennsylvania Avenue, NW., Washington, DC 20460; telephone: (703) 308-8715; e-mail: mendelsohn.mike@epa.gov.

List of Subjects

Environmental protection, Pesticides and pests.

Dated: April 5, 2001.
Janet L. Andersen,
Director, Biopesticides and Pollution Prevention Division, Office of Pesticide Programs.

[FR Doc. 01-10437 Filed 4-25-01 8:45 am]

BILLING CODE 6560-50-S